DEPARTMENT OF THE INTERIOR

Fish and Wildlife Service

Bolsa Chica Lowland Restoration Project Final Environmental Impact Statement/Report

AGENCY: Fish and Wildlife Service, Department of the Interior, and the U.S. Army Corps of Engineers, Department of Defense.

ACTION: Notice of availability.

SUMMARY: Pursuant to the National Environmental Policy Act of 1969, the Fish and Wildlife Service (FWS) announces the availability of a final environmental impact statement/report (FEIS/R) for the Bolsa Chica Lowland Restoration Project, Orange County, California.

DATES: A 30-day review period will follow the Environmental Protection Agency's notice of availability of the FEIS/R on April 27, 2001.

ADDRESSES: Public reading copies of the FEIS/R will be available for review at:

Huntington Beach Central Library, 7111 Talbert, Huntington Beach, California

Garden Grove County Regional Library, 11200 Stanford, Garden Grove, California

Fountain Valley Branch Library, 17635 Los Alamos, Fountain Valley, California

Seal Beach Branch Library, 707 Electric Ave., Seal Beach, California

Fish and Wildlife Service, 2730 Loker Ave. West, Carlsbad, California

Corps of Engineers, Los Angeles District, 711 Wilshire Blvd., 14th floor, Los Angeles, California

FOR FURTHER INFORMATION CONTACT: Jack Fancher, Coastal Program Coordinator, Fish and Wildlife Service, 2730 Loker Ave. West, Carlsbad, California 92008. Phone (760) 431-9440 or Pam Castens, Corps of Engineers, P.O. Box 532711, Los Angeles, California 90053-2325. Phone (213) 452-3851.

SUPPLEMENTARY INFORMATION: This FEIS/R has been prepared and is being circulated in accordance with the California Environmental Quality Act (CEQA) and the National Environmental Policy Act (NEPA). The Fish and Wildlife Service and the Corps of Engineers are NEPA co-lead agencies, cooperating with six other State and Federal agencies on implementation of the proposed plan. This project involves the proposal to implement a comprehensive habitat restoration plan with a public access component for an approximately 1,300-acre area known as the Bolsa Chica Lowlands. The project site is in the western Orange County, California, next to the City of Huntington Beach, Pacific Coast Highway and Bolsa Chica State Beach.

Major components of this planning effort are: (1) Restoration of full tidal influence through new inlet and bridge construction and expansion of the wetland's tidal prism by dredging, (2) creation and enhancement of aquatic habitats and intertidal wetlands, (3) creation of nesting and feeding areas for threatened and endangered birds, (4) preservation of nontidal wetlands, and (5) phased removal of oil extraction facilities from the wetlands area. It is anticipated that tidal restoration would be accomplished primarily by the Fish and Wildlife Service and partners. The Final EIS/R analyzes six project alternatives including other inlet locations and flood channel alignments. The lead agencies indicate a preference for the downcoast or southerly inlet location and no flood channel realignment.

Dated: April 17, 2001.
Steve Thompson,
Acting Manager, California-Nevada Office, Fish and Wildlife Service.

[FR Doc. 01-10216 Filed 4-26-01; 8:45 am]

BILLING CODE 4310-55-P